DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Vessel Monitoring System (VMS) and Related Requirements.

OMB Control Number: 0648-0544.

Form Number(s): None.

Type of Request: Regular submission.

Burden Hours: 2,348.

Number of Respondents: 882.

Average Hours per Response: Fishing activity reports, 1 minute; VMS activation checklists, 15 minutes; and power-down exemption request, 10 minutes.

Needs and Uses: Under Amendment 18A to the Fishery Management Plan for Reef Fish Fisheries in the Gulf of Mexico, codified in 50 U.S.C. 622, owners of vessels with valid permits were required to install vessel monitoring systems (VMS) on their vessels. VMS units automatically send periodic reports on the position of the vessel. National Marine Fisheries Service (NMFS) uses the reports to monitor the vessel's location and activities while enforcing area closures. When a VMS is installed and turned on, an activation checklist must be sent to NMFS Office for Law Enforcement. Every vessel that is required to have a VMS unit must have that VMS unit on and properly functioning at all times, even when docked, and prior to each fishing trip, or during a trip if activity changes, a report of fishing activity must be submitted to NMFS VMS personnel. A power-down exemption request may be submitted when boats are out of the water, i.e., for maintenance/repairs in drydock.

Affected Public: Business or other for-profit organizations.

Frequency: One time and on occasion.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 27, 2009.
Gwellnar Banks,
Management Analyst, Office of the Chief Information Officer.

[FR Doc. E9-12607 Filed 5-29-09; 8:45 am]

BILLING CODE 3510-22-P